FEDERAL COMMUNICATIONS COMMISSION

47 CFR Part 73

[DA 03-2035; MM Docket No. 01-175; RM-10197]

Radio Broadcasting Services; Asheville, NC, Augusta, GA, Fletcher, NC, Old Fort, NC, and Surgoinsville, TN

AGENCY: Federal Communications Commission.

ACTION: Final rule.

SUMMARY: The Commission, at the request of Clear Channel Broadcasting Licenses, Inc. and Capstar TX Limited Partnership, reallots Channel 282A from Old Fort to Fletcher, North Carolina, and modifies Station WQNQ(FM)'s license accordingly. We also reallot Channel 260C from Asheville to Old Fort, North Carolina as a replacement service, and modify Station WKSF(FM)'s license accordingly. To accommodate the reallotments, we modify the reference coordinates for Station WEYE(FM), Channel 282A at Surgoinsville, Tennessee; and the reference coordinates for Station WBBQ-FM, Channel 282C, Augusta, Georgia. See 66 FR 42623, August 14, 2001. See Supplementary Information, infra.

DATES: Effective August 7, 2003.

ADDRESSES: Federal Communications Commission, Washington, DC 20554.

FOR FURTHER INFORMATION CONTACT: Sharon P. McDonald, Media Bureau, (202) 418-2180.

SUPPLEMENTARY INFORMATION: This is a synopsis of the Commission's Report and Order, MM Docket No. 01-175, adopted June 18, 2003, and released June 23, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20054.

Channel 282A can be reallotted to Fletcher in compliance with the Commission's minimum distance separation requirements with a site restriction of 12.8 kilometers (8.0 miles) north at petitioners' requested site. The coordinates for Channel 282A at Fletcher are 35-32-28 North Latitude and 82-32-32 West Longitude. The coordinates for Channel 260C at Old Fort are 35-25-32 North Latitude and 82-45-25 West Longitude. Additionally, the modified reference coordinates for Channel 282A at Surgoinsville are 36-33-11 North Latitude and 82-51-23 West Longitude; and the modified reference coordinates for Channel 282C at Augusta are 33-34-24 North Latitude and 81-54-17 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under North Carolina, is amended by removing Asheville, Channel 260C, by adding Fletcher, Channel 282A, by removing Channel 282A and by adding Channel 260C at Old Fort.

Federal Communications Commission.
John A. Karousos,
Assistant Chief, Audio Division, Media Bureau.

[FR Doc. 03-16957 Filed 7-3-03; 8:45 am]

BILLING CODE 6712-01-P